NATIONAL TRANSPORTATION SAFETY BOARD

General Aviation Safety Forum: Climbing to the Next Level

The National Transportation Safety Board (NTSB) will convene a 2-day forum focused on safety issues related to general aviation on June 19-20, 2012 in Washington, DC.

The event, “General Aviation Safety: Climbing to the Next Level,” will be chaired by NTSB Chairman Deborah A. P. Hersman and all five Board Members will participate.

“Each year, hundreds of people are killed in general aviation crashes, and thousands more are injured,” said Chairman Hersman. “Tragically, the circumstances leading to these accidents are often repeated over and over, year after year. If we are going to prevent future fatalities and injuries, these common causes must be addressed.”

Over the years, the NTSB has issued numerous safety recommendations addressing general aviation operations and last year, added General Aviation Safety to its revamped Most Wanted List of Transportation Safety Improvements.

Among the key safety issues the forum will address are pilot training and performance, pilot access to and use of weather-related information, and aircraft design, maintenance, and certification.

Panelists participating in the forum will represent industry, government, academia, and professional associations. At the conclusion of all presentations for each topic area, presenters will take part in a question and answer discussion with Board Members and NTSB staff. A detailed agenda and list of participants will be released closer to the date of the event.

Below is the preliminary forum agenda:

Tuesday, June 19

—Welcome and Opening Remarks

—Session One: Safety Priorities

—Session Two: Safety Programs

—Session Three: Role of the Flight Instructor

—Session Four: Content/Quality/Consistency of Pilot Training

Wednesday, June 20

—Session Five: Weather-Related Decision Making

—Session Six: New Aircraft Design and Certification

—Session Seven: Advanced Avionics and Handhelds

—Session Eight: Aircraft Maintenance and Modification

—Closing Remarks

A detailed agenda and list of participants will be released closer to the date of the event. The forum will be held in the NTSB Board Room and Conference Center, located at 429 L'Enfant Plaza SW., Washington, DC. The forum is open to the public and free of charge. In addition, the forum can be viewed via webcast at www.ntsb.gov.

NTSB Media Contact: Keith Holloway, (202) 314-6100, keith.holloway@ntsb.gov.

NTSB Forum Manager: Jill Demko, 203-463-8320, jill.demko@ntsb.gov.

Candi R. Bing,
Federal Register Liaison Officer.

[FR Doc. 2012-13787 Filed 6-6-12; 8:45 am]

BILLING CODE P